ENVIRONMENTAL PROTECTION AGENCY

40 CFR Part 52

[TX-129-1-7471a; FRL-7091-3]

Approval and Promulgation of Implementation Plans; Texas; Control of Air Pollution from Volatile Organic Compounds, Solvent Using Processes, Surface Coating Processes, Aerospace Manufacturing and Rework Operations

AGENCY: Environmental Protection Agency (EPA).

ACTION: Direct final rule.

SUMMARY: The EPA is taking direct final action on revisions to the Texas State Implementation Plan (SIP). These revisions concern Control of Air Pollution from Volatile Organic Compounds (VOC), Solvent Using Processes, Surface Coating Processes, Aerospace Manufacturing and Rework Operations. The EPA is approving these revisions to regulate emissions of VOCs in accordance with the requirements of the Federal Clean Air Act (the Act). The EPA is approving these revisions as meeting the Reasonably Available Control Technology (RACT) requirements under the provisions of the Act. The EPA is also removing three site-specific alternate RACT (ARACT) determinations from the Texas SIP, since the VOC revisions we are approving today into the Texas SIP are now RACT for the three sites.

DATES: This rule is effective on December 31, 2001 without further notice, unless EPA receives adverse comment by November 29, 2001. If EPA receives such comment, EPA will publish a timely withdrawal in the Federal Register informing the public that this rule will not take effect.

ADDRESSES: Written comments on this action should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Alan Shar, Air Planning Section (6PD-L), EPA Region 6, 1445 Ross Avenue, Dallas, Texas 75202-2733, telephone (214) 665-6691.

SUPPLEMENTARY INFORMATION:

Table of Contents

1. What action is EPA taking?

2. Where can I find EPA guidelines for Aerospace Manufacturing and Rework Operations?

3. What Is a Control Techniques Guideline (CTG)?

4. What Is the Aerospace CTG?

5. Why do we regulate VOCs?

6. Why is Texas adopting the EPA's guidelines for the Aerospace Manufacturing and Rework Operations?

7. Will these changes meet the Act's RACT requirements?

8. What is a State Implementation Plan?

9. What is the Federal approval process for a SIP?

10. What does Federal approval of a SIP mean to me?

11. What areas in Texas will these rules affect?

Throughout this document “we,” “us,” and “our” means EPA.

1. What Action Is EPA Taking?

On July 13, 2000, the Governor of Texas submitted a revised Chapter 115, “Control of Air Pollution From Volatile Organic Compounds,” as a revision to the SIP. The July 13, 2000, SIP submittal concerned Solvent Using Processes, Surface Coating Processes, Aerospace Manufacturing and Rework Operations. The Governor also requested that the revised Chapter 115 replace three site-specific ARACT determinations EPA previously approved as part of the Texas SIP.

On March 27, 1998, EPA amended the National Emission Standards for Hazardous Air Pollutants (NESHAP) final rule and released the final CTG Document for Aerospace Manufacturing and Rework Facilities. See 63 FR 15006. The EPA released the draft CTG for this source category at the same time as we proposed to amend the NESHAP for Aerospace Manufacturing and Rework Facilities. See 61 FR 55842, published October 29, 1996. Earlier, we had established the final NESHAP standards for Aerospace Manufacturing and Rework Facilities. See 60 FR 45948, published on September 1, 1995.

On January 20, 1994, we approved an Alternate Reasonably Available Control Technology (ARACT) demonstration for Air Force Plant 4, operated by the Lockheed Corporation of Fort Worth, Texas. See 59 FR 2991.

On May 30, 1997, we approved an ARACT demonstration for Bell Helicopter Textron, Incorporated; Bell Plant 1 Facility of Fort Worth, Texas. See 62 FR 29297.

On February 9, 1998, we approved an ARACT demonstration for Raytheon TI Systems, Inc., (RTIS) of Dallas, Texas. See 63 FR 6491.

The final NESHAP rule revision and the CTG document for Aerospace Manufacturing and Rework Operations, as published on March 27, 1998, are more comprehensive and detailed than the existing SIP approved ARACTs for these companies.

The TNRCC has incorporated the contents of the Aerospace Manufacturing and Rework Operations' CTG into Chapter 115, and is requesting that EPA remove the existing SIP ARACTs for the three Aerospace Manufacturing and Rework companies from the approved Texas SIP, and replace them with the revised Chapter 115 rules.

The State also made non-substantive revisions to the Chapter 115 rules, e.g., substituting federal definitions. The following Table contains title of the rule, rule's log number, and a summary of the affected sections, under the proposed rule revision.

Table I.—Log Number, Title, and Affected Sections of the Rule
Rule log No. | Title | Affected sections
1999-023-115-AI | Surface Coating | 115.420 Surface Coating Definitions.
|  | 115.421 Emission Specification.
|  | 115.422 Control Requirements.
|  | 115.423 Alternate Control Requirements.
|  | 115.424 Inspection Requirements.
|  | 115.425 Testing Requirements.
|  | 115.426 Monitoring and Recordkeeping Requirements.
|  | 115.427 Exemptions.
|  | 115.429 Counties and Compliance Schedules.

We are approving revisions to the Texas SIP concerning control of VOC emissions from Surface Coating Processes, Aerospace Manufacturing and Rework Operations. We are approving the rule revisions under sections 110(k)(3) and 183(b)(3) of the Act, as meeting the RACT requirements under section 182(b)(2) of the Act. We are of the opinion that these rule revisions will reduce the aggregate VOC emissions, and are consistent with our CTGs and other applicable RACT guidance. Therefore, we are removing from the Texas SIP, the ARACTS for Lockheed Air Force Plant 4, Bell Helicopter Textron Plant 1, and Raytheon TI Systems. These three sources will now, for purposes of federal enforcement under the Texas SIP, be subject to the requirements of the SIP-approved Chapter 115, rather than the previously approved ARACT determinations. For more information on this SIP revision and our evaluation, please refer to our Technical Support Document (TSD) dated November 2000.

2. Where Can I Find EPA Guidelines for Aerospace Manufacturing and Rework Operations?

You can find our guidelines on Aerospace Manufacturing and Rework Operations in 63 FR 15006, published on March 27, 1998. We have attached a copy of this document with our TSD dated July 2001.

3. What Is a CTG?

A CTG is an EPA document that establishes a “presumptive norm” for RACT for a specific VOC source category. Under the pre-amended Act, EPA issued CTG documents for 29 categories of VOC sources. Section 183 of the amended Act requires that EPA issue 13 new CTGs. Appendix E of the General Preamble of Title I (57 FR 18077) lists the categories for which EPA plans to issue new CTGs.

4. What Is the Aerospace CTG?

We issued a CTG pursuant to section 183 to reduce VOC emissions from aerospace coatings and solvents on March 27, 1998. See 63 FR 15006. This CTG applies to aerospace coating operations with the minimum potential to emit of 50 tons per year (tpy) of VOC. This CTG addresses RACT for control of VOC emissions from aerospace and rework facilities. Emission limits for processes also addressed in the final revised NESHAP are identical to the NESHAP limits.

5. Why Do We Regulate VOCs?

Oxygen in the atmosphere reacts with VOCs and Oxides of Nitrogen to form ozone, a key component of urban smog. Inhaling even low levels of ozone can trigger a variety of health problems including chest pains, coughing, nausea, throat irritation, and congestion. It also can worsen bronchitis and asthma. Exposure to ozone can also reduce lung capacity in healthy adults.

6. Why Is Texas Adopting EPA's Guidelines for the Aerospace Manufacturing and Rework Operations?

Texas adopted EPA's guidelines for the Aerospace Manufacturing and Rework Operations into its Chapter 115 rules, because (1) our guidelines are more comprehensive and detailed than the existing SIP approved ARACTs for Aerospace Manufacturing and Rework Operations, and (2) those companies with a SIP-approved ARACT determination will not have to comply with two different sets of regulations, i.e., the SIP's ARACT requirements versus the NESHAP rule, for their surface coating processes.

For detailed evaluation of the specific provisions of this rule revision, please see our TSD dated November 2000.

7. Will These Changes Meet the Act's RACT Requirements?

Yes, the new aerospace rules and the non-substantive, administrative changes will continue to meet the RACT requirements, because they will (1) delete and remove unnecessary requirements, (2) reduce confusion, (3) streamline regulations, (4) improve applicability determination, and (5) enhance compliance determination for enforcement purposes. They are consistent with EPA's CTGs and other RACT guidance. For these reasons we are approving the proposed rule revisions into the Texas SIP.

8. What Is a State Implementation Plan?

Section 110 of the Act requires States to develop air pollution regulations and control strategies to ensure that State air quality meets the National Ambient Air Quality Standards (NAAQS) that EPA has established. Under section 109 of the Act, EPA established the NAAQS to protect public health. The NAAQS address six criteria pollutants. These criteria pollutants are: carbon monoxide, nitrogen dioxide, ozone, lead, particulate matter, and sulfur dioxide.

Each State may submit these regulations and control strategies to us for approval and incorporation into the federally enforceable SIP. Each State has a SIP designed to protect air quality. These SIPs can be extensive, containing State regulations or other enforceable documents and supporting information such as emission inventories, monitoring networks, and modeling demonstrations.

9. What Is the Federal Approval Process for a SIP?

When a State wants to incorporate its regulations into the federally enforceable SIP, the State must formally adopt the regulations and control strategies consistent with State and Federal requirements. This process includes a public notice, a public hearing, a public comment period, and a formal adoption by a state-authorized rulemaking body.

Once a State adopts a rule, regulation, or control strategy, the State may submit the adopted provisions to us and request that we include these provisions in the federally enforceable SIP. We must then decide on an appropriate Federal action, provide public notice on this action, and seek additional public comment regarding this action. If we receive adverse comments, we must address them prior to a final action.

Under section 110 of the Act, when we approve all State regulations and supporting information, those State regulations and supporting information become a part of the federally approved SIP. You can find records of these SIP actions in the Code of Federal Regulations at Title 40, part 52, entitled “Approval and Promulgation of Implementation Plans.” The actual State regulations that we approved are not reproduced in their entirety in the CFR but are “incorporated by reference,” which means that we have approved a given State regulation with a specific effective date.

10. What Does Federal Approval of a SIP Mean to Me?

A State may enforce State regulations before and after we incorporate those regulations into a federally approved SIP. After we incorporate those regulations into a federally approved SIP, EPA has the authority to take enforcement action against violators of these regulations. Citizens have also legal recourse to address violations as described in section 304 of the Act.

11. What Areas in Texas Will These Rules Affect?

These rules will affect the companies with surface coatings associated with the Aerospace Manufacturing and Rework Operations within the State of Texas that have a potential to emit at least 50 tpy of VOCs; specifically, Bell Helicopter Textron, Raytheon TI Systems, Inc., and Lockheed Corporation, which are in the Dallas/Fort Worth 1-hour ozone nonattainment area. If you are one of such companies, you need to refer to these rules to find out if and how these rules will affect you.

Final Action

The EPA is publishing this rule without prior proposal because we view this as a noncontroversial amendment and anticipate no adverse comments. However, in the “Proposed Rules” section of today's Federal Register publication, we are publishing a separate document that will serve as the proposal to approve the SIP revision if adverse comments are received. This rule will be effective on December 31, 2001 without further notice unless we receive adverse comment by November 29, 2001. If EPA receives adverse comments, we will publish a timely withdrawal in the Federal Register informing the public that the rule will not take effect. We will address all public comments in a subsequent final rule based on the proposed rule. We will not institute a second comment period on this action. Any parties interested in commenting must do so at this time.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 Note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective December 31, 2001 unless EPA receives adverse written comments by November 29, 2001.

Under section 307(b)(1) of the Clean Air Act, petitions for judicial review of this action must be filed in the United States Court of Appeals for the appropriate circuit by December 31, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2)of the Act.)

List of Subjects in 40 CFR Part 52

Environmental protection, Air pollution control, Intergovernmental relations, Reporting and recordkeeping requirements, Volatile organic compounds.

Dated: October 10, 2001.
Gregg A. Cooke,
Regional Administrator, Region 6.

40 CFR part 52 is amended as follows:

PART 52—[AMENDED]

1. The authority citation for part 52 continues to read as follows:

Authority: 42 U.S.C. 7401 et seq.

Subpart SS—Texas

2. In § 52.2270 the table in paragraph (c) is amended under Chapter 115, Subchapter E, by removing the entry for “Section 115.421 to 115.429” and adding in its place a new heading “Division 2: Surface Coating Processes” and individual entries for Sections 115.420, 115.421, 115.422, 115.423, 115.424, 115.425, 115.426, 115.427, and 115.429 to read as follows:

§ 52.2270 Identification of plan.

* * * * *

(c) * * *

EPA Approved Regulations in the Texas SIP
State citation | Title/Subject | State submittal/approval date | EPA approval date | Explanation
* * * * * * *
Chapter 115 (Reg 5)—Control of Air Pollution from Volatile Organic Compounds
* * * * * * *
Subchapter E: Solvent-Using Processes
* * * * * * *
Division 2: Surface Coating Processes
Section 115.420 | Surface Coating Definitions | June 29, 2000 | October 29, 2001 |
Section 115.421 | Emission Specifications | June 29, 2000 | October 29, 2001 |
Section 115.422 | Control Requirements | June 29, 2000 | October 29, 2001 |
Section 115.423 | Alternate Control Requirements | June 29, 2000 | October 29, 2001 |
Section 115.424 | Inspection Requirements | June 29, 2000 | October 29, 2001 |
Section 115.425 | Testing Requirements | June 29, 2000 | October 29, 2001 |
Section 115.426 | Monitoring and Recordkeeping Requirements | June 29, 2000 | October 29, 2001 |
Section 115.427 | Exemptions | June 29, 2000 | October 29, 2001 |
Section 115.429 | Counties and Compliance Schedules | June 29, 2000 | October 29, 2001 |
* * * * * * *

3. Section 52.2299 is amended by adding a new paragraph (c)(121) to read as follows:

§ 52.2299 Original identification of plan section.

* * * * *

(C) * * *

(121) Revisions submitted by the Governor on July 13, 2000, that remove approval of the Alternate Reasonably Available Control Technology (ARACT) for Lockheed Corporation, Bell Helicopter Textron, Incorporated; Bell Plant 1, and Raytheon TI Systems, Inc., (RTIS).

[FR Doc. 01-27107 Filed 10-29-01; 8:45 am]

BILLING CODE 6560-50-P